DEPARTMENT OF AGRICULTURE

[Docket No. USDA-2023-0007]

Notice of Request for Public Comment on 2023 Update to Technical Guidelines for Quantifying Greenhouse Gas (GHG) Emissions and Carbon Sequestration at the Entity-Scale for Agriculture and Forestry

AGENCY: Office of the Chief Economist, U.S. Department of Agriculture.

ACTION: Request for public comment; reopening of comment period.

SUMMARY: We are reopening the comment period for our request for comments on the 2023 update to the report Quantifying Greenhouse Gas Fluxes in Agriculture and Forestry: Methods for Entity-Scale Inventory, Technical Bulletin Number 1939, Office of the Chief Economist, USDA, Washington, DC. This action will allow interested persons additional time to prepare and submit comments.

DATES: The comment period for the notice published at 88 FR 37846 on June 9, 2023, is reopened. We will consider all comments that we receive on or before August 9, 2023.

ADDRESSES: Comments submitted in response to this notice may be submitted online via the Federal eRulemaking Portal. Go to https://www.regulations.gov and search for Docket No. USDA-2023-0007. Follow the online instructions for submitting comments. Comments will be posted without change and publicly available on www.regulations.gov.

FOR FURTHER INFORMATION CONTACT: Any questions about this notice should be sent to Wes Hanson, Office of Energy and Environmental Policy via email: wes.hanson@usda.gov, or telephone: 202-425-1596.

SUPPLEMENTARY INFORMATION: On June 9, 2023, we published in the Federal Register (88 FR 37846-37847, Docket No. USDA-2023-0007) a notice requesting comments on the 2023 update to the report Quantifying Greenhouse Gas Fluxes in Agriculture and Forestry: Methods for Entity-Scale Inventory, Technical Bulletin Number 1939, Office of the Chief Economist, USDA, Washington, DC.

Comments on the report update were required to be received on or before July 10, 2023. We are reopening the comment period on Docket No. USDA-2023-0007 for an additional 30 days. This action will allow interested persons additional time to prepare and submit comments.

Seth Meyer,
Chief Economist.

[FR Doc. 2023-14613 Filed 7-10-23; 8:45 am]

BILLING CODE 3410-GL-P